Executive Order 13447 of September 28, 2007

Further 2007 Amendments to the Manual for Courts-Martial, United States

By the authority vested in me as President by the Constitution and the laws of the United States of America, including chapter 47 of title 10, United States Code (Uniform Code of Military Justice, 10 U.S.C. 801-946), and in order to prescribe amendments to the Manual for Courts-Martial, United States, prescribed by Executive Order 12473, as amended, it is hereby ordered as follows:

Section 1. The second subparagraph of paragraph 4, of Part I, of the Manual for Courts-Martial, United States, as amended by section 2 of Executive Order 13262 of April 11, 2002, is amended by striking the third sentence.

Sec. 2. Parts II, III, and IV of the Manual for Courts- Martial, United States, are amended as described in the Annex attached and made a part of this order.

Sec. 3. These amendments shall take effect on October 1, 2007.

(a) Nothing in these amendments shall be construed to make punishable any act done or omitted prior to October 1, 2007, that was not punishable when done or omitted.

(b) Nothing in these amendments shall be construed to invalidate any nonjudicial punishment proceedings, restraint, investigation, referral of charges, trial in which arraignment occurred, or other action begun prior to October 1, 2007, and any such nonjudicial punishment, restraint, investigation, referral of charges, trial, or other action may proceed in the same manner and with the same effect as if these amendments had not been prescribed.

THE WHITE HOUSE,

September 28, 2007.

Billing code 3195-01-P

[FR Doc. 07-4907

Filed 10-1-07; 9:47 am]

Billing code 5060-06-C